DEPARTMENT OF JUSTICE

[OMB Number 1122-0022]

Agency Information Collection Activities; Proposed eCollection eComments Requested; Extension of a Previously Approved Collection; Annual Progress Report for the Sexual Assault Services Formula Grant Program

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until July 7, 2025.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Sexual Assault Services Formula Grant Program (SASP) funding is awarded to states and territories. These funds support rape crisis centers and other nonprofit, nongovernmental organizations or tribal programs that provide services, direct intervention, and related assistance to victims of sexual assault and their families. The first federal funding stream solely dedicated to the provision of direct intervention and related assistance for victims of sexual assault, the SASP funds are designed to supplement other funding sources directed at addressing sexual assault at the state and territorial level. SASP grants support intervention, advocacy, accompaniment, support services, and related assistance for adult, youth, and child victims of sexual assault, family and household members of victims, and those collaterally affected by the sexual assault. The grant funds are distributed by SASP state administrators to subgrantees as outlined under the provisions of the Violence Against Women Act, 34 U.S.C. 12511.

Overview of This Information Collection

1. Type of Information Collection: Extension of a currently approved collection.

2. Title of the Form/Collection: Annual Progress Report for the Sexual Assault Services Formula Grant Program (SASP).

3. Agency form number, if any, and the applicable component of the Department of Justice sponsoring the collection: Form Number: 1122-0022. U.S. Department of Justice, Office on Violence Against Women.

4. Affected public who will be asked or required to respond, as well as a brief abstract: The affected public includes the approximately 606 state SASP administrators and subgrantees of the SASP.

5. An estimate of the total number of respondents and the amount of time estimated for an average respondent to respond/reply: It is estimated that it will take approximately 606 respondents (SASP administrators and subgrantees) approximately one hour to complete an annual progress report. The annual progress report is divided into sections that pertain to the different types of activities in which subgrantees may engage. A SASP subgrantee will only be required to complete the sections of the form that pertain to its own specific activities. The form includes a section for state administrators which addresses the distribution of subawards.

6. An estimate of the total public burden (in hours) associated with the collection: The total annual hour burden to complete the data collection form is 606 hours, that is 606 administrators and subgrantees completing a form once a year with an estimated completion time for the form being one hour.

7. An estimate of the total annual cost burden associated with the collection, if applicable: The annualized costs to the Federal Government resulting from the OVW staff review of the progress reports submitted by grantees are estimated to be $33,936.

Activity | Number of respondents | Frequency (annually) | Total annual responses | Time per response (hour) | Total annual burden (hours)
Progress Report Form | 606 | 1 | 606 | 1 | 606
Unduplicated Totals | 606 |  | 606 |  | 606

If additional information is required contact: Darwin Arceo, Department Clearance Officer, United States Department of Justice, Justice Management Division, Policy and Planning Staff, Two Constitution Square, 145 N Street NE, 4W-218, Washington, DC.

Dated: April 29, 2025.
Darwin Arceo,
Department Clearance Officer for PRA, U.S. Department of Justice.

[FR Doc. 2025-07689 Filed 5-2-25; 8:45 am]

BILLING CODE 4410-FX-P